DEPARTMENT OF AGRICULTURE

Food and Nutrition Service

RIN 0584-AD87

Supplemental Nutrition Assistance Program (SNAP): Eligibility, Certification, and Employment and Training Provisions of the Food, Conservation and Energy Act of 2008; Approval of Information Collection Request

AGENCY: Food and Nutrition Service, USDA.

ACTION: Notice of approval of Information Collection Request (ICR).

SUMMARY: The final rule and interim final rule titled Eligibility, Certification, and Employment and Training Provisions of the Food, Conservation and Energy Act of 2008 was published on January 6, 2017 (82 FR 2010). The Office of Management and Budget (OMB) cleared the associated information collection requirements on July 13, 2017. This document announces approval of the ICR.

DATES: The ICR associated with the final rule was published in the Federal Register on January 6, 2017, and was approved by OMB on July 13, 2017, under OMB Control Number 0584-0064.

FOR FURTHER INFORMATION CONTACT: Sasha Gersten-Paal, Branch Chief, Certification Policy Branch, Program Development Division, Food and Nutrition Service (FNS), at (703) 305-2507, sasha.gersten-paal@fns.usda.gov.

Dated: October 24, 2017.
Brandon Lipps,
Administrator, Food and Nutrition Service.

[FR Doc. 2017-23824 Filed 11-1-17; 8:45 am]

BILLING CODE 3410-30-P